DEPARTMENT OF COMMERCE

International Trade Administration

Notice of Scope Rulings

AGENCY: Enforcement and Compliance, International Trade Administration, Department of Commerce.

DATES: Effective June 7, 2017.

SUMMARY: The Department of Commerce (the Department) hereby publishes a list of scope rulings and anticircumvention determinations made between April 1, 2016, and June 30, 2016, inclusive. We intend to publish future lists after the close of the next calendar quarter.

FOR FURTHER INFORMATION CONTACT: Brenda E. Waters, AD/CVD Operations, Customs Liaison Unit, Enforcement and Compliance, International Trade Administration, U.S. Department of Commerce, 1401Constitution Avenue NW., Washington, DC 20230; telephone: 202-482-4735.

SUPPLEMENTARY INFORMATION:

Background

The Department's regulations provide that the Secretary will publish in the Federal Register a list of scope rulings on a quarterly basis.¹ Our most recent notification of scope rulings was published on March 15, 2017.² This current notice covers all scope rulings and anticircumvention determinations made by Enforcement and Compliance between April 1, 2016, and June 30, 2016, inclusive. Subsequent lists will follow after the close of each calendar quarter.

¹ See 19 CFR 351.225(o).

² See Notice of Scope Rulings, 82 FR 13794 (March 15, 2017).

Scope Rulings Made Between April 1, 2016 and June 30, 2016

People's Republic of China

A-570-967 and C-570-968: Aluminum Extrusions From the People's Republic of China

Requestor: Bottom Line Traction, Inc.; Portal sets, which are used as entryways for retail spaces, are outside the scope of the orders because, at the time of importation, they constitute finished goods kits that contain non-extruded aluminum parts beyond mere fasteners, along with other parts necessary to assemble the finished downstream; April 15, 2016.

A-570-967 and C-570-968: Aluminum Extrusions From the People's Republic of China

Requestor: Lockfast, Inc.; Banner stand kits are outside the scope of the orders because they constitute a finished goods kit that includes non-extruded aluminum components beyond mere fasteners, along with other parts necessary to assemble the finished banner stand upon importation; June 16, 2016.

A-570-967 and C-570-968: Aluminum Extrusions From the People's Republic of China

Requestor: Ancra International LLC; Lift-a-Deck II foot assembly, a component of an adjustable system of tracks, beams and other components designed to maximize the usage of cargo space in trucks and trailers, is outside the scope of the orders because it meets the requirement of subassemblies, which are imported as finished merchandise, ready for installation into a downstream product; June 20, 2016.

A-570-018 and C-570-019: Boltless Steel Shelving Units Prepackaged for Sale From the People's Republic of China

Requestor: Seville Classics, Inc.; Outside the scope of the orders based on the plain language of the scope because none of the 21 shoe and utility rack frames lock together for the structural integrity of the unit without the inclusion of the decking; June 24, 2016.

A-570-018 and C-570-019: Boltless Steel Shelving Units Prepackaged for Sale From the People's Republic of China

Requestor: Illinois Tool Works Inc.; Outside the scope of the orders based on the plain language of the scope because two of the bicycle racks require bolts for assembly and the horizontal support member for the third bicycle rack does not include the capacity for a horizontal storage surface; June 30, 2016.

A-570-016 and C-570-017: Certain Passenger Vehicle and Light Truck Tires From the People's Republic of China

Requestor: American Omni Trading Company LLC and Unicorn Tire Corporation; racing tires that contain a “DOT” symbol but are not of a size listed in the passenger vehicle or light truck section of the Tire and Rim Association Year Book are outside the scope of the antidumping and countervailing duty orders on certain passenger vehicle and light truck tires from the People's Republic of China; May 27, 2016.

A-570-979 and C-570-980: Crystalline Silicon Photovoltaic Cells, Whether or not Assembled Into Modules From the People's Republic of China

Requestor: Goal Zero, LLC; the Torch 250 Flashlight is covered by the scope of the antidumping and countervailing duty orders on crystalline silicon photovoltaic cells, whether or not assembled into modules, from the People's Republic of China because one of its functions is to provide power for other electronic devices and thus it does not qualify for the exclusion identified in the scope of the orders; May 13, 2016.

A-570-970 and C-570-971: Multilayered Wood Flooring From the People's Republic of China

Requestor: Dunhua Shengda Wood Industry Co., Ltd. (Dunhua Shengda); Dunhua Shengda's two-layer wood flooring products are not within the scope of the Orders on multilayered wood flooring from the PRC because they lack the expressed requirement of two or more layers or plies of wood veneer in combination with a core; April 25, 2016.

A-570-970 and C-570-971: Multilayered Wood Flooring From the People's Republic of China

Requestor: Zhejiang Biyork Wood Co., Ltd. (Biyork Wood); Biyork Wood's two-layer constructed wood flooring panels are not within the scope of the Orders on multilayered wood flooring from the PRC because they lack the expressed requirement of two or more layers or plies of wood veneer in combination with a core; May 23, 2016.

A-570-970 and C-570-971: Multilayered Wood Flooring From the People's Republic of China

Requestor: Jiangsu Beier Decoration Material Co. Ltd. (Beier Decoration); Beier Decoration's three-layer construction wood flooring panel is not within the scope of the Orders on multilayered wood flooring from the PRC because they lack the expressed requirement of two or more layers or plies of wood veneer in combination with a core; June 21, 2016.

Interested parties are invited to comment on the completeness of this list of completed scope and anticircumvention inquiries. Any comments should be submitted to the Deputy Assistant Secretary for AD/CVD Operations, Enforcement and Compliance, International Trade Administration, 1401 Constitution Avenue NW., APO/Dockets Unit, Room 18022, Washington, DC 20230.

This notice is published in accordance with 19 CFR 351.225(o).

Dated: June 1, 2017.
Gary Taverman,
Deputy Assistant Secretary for Antidumping and Countervailing Duty Operations.

[FR Doc. 2017-11829 Filed 6-6-17; 8:45 am]

BILLING CODE 3510-DS-P